DEPARTMENT OF ENERGY

Federal Energy Regulatory Commission

[Docket No. RP04-201-001]

ANR Pipeline Company; Notice of Compliance Filing

April 20, 2004.

Take notice that on April 14, 2004, ANR Pipeline Company (ANR) tendered for filing its transmittal letter and appendix.

ANR states that the transmittal letter and appendix is being filed in compliance with the Commission's order issued March 30, 2004 in the referenced proceeding.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-928 Filed 4-26-04; 8:45 am]

BILLING CODE 6717-01-P